DEPARTMENT OF DEFENSE

Defense Intelligence Agency

Privacy Act of 1974; Systems of Records

AGENCY: Defense Intelligence Agency, DoD.

ACTION: Notice to amend a system of records.

SUMMARY: The Defense Intelligence Agency is amending a system of records Notice to its existing inventory of record systems subject to the Privacy Act of 1974 (5 U.S.C. 552a), as amended.

DATES: This proposed action will be effective without further notice on June 30, 2006 unless comments are received that would result in a contrary determination.

ADDRESSES: Freedom of Information Office, Defense Intelligence Agency (DAN-1A), 200 MacDill Blvd., Washington, DC 20340-5100.

FOR FURTHER INFORMATION CONTACT: Ms. Theresa Lowery at (202) 231-1193.

SUPPLEMENTARY INFORMATION: The Defense Intelligence Agency notices for systems of records subject to the Privacy Act of 1974 (5 U.S.A. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: May 24, 2006.
L.M. Bynum,
OSD Federal Register Liaison Officer, Department of Defense.

LDIA 0014

System name:

Employee Grievance Files (February 22, 1993, 58 FR 10613).

Changes:

* * * * *

System Location:

Delete zip code and replace with: “20340-5100”.

Categories of Individuals Covered by the System:

Delete entry and replace with: “Current and former civilian employees of DIA who have submitted grievances in accordance with DIA Regulation 22-23 “Civilian Personnel Administration Manual—DIA Employee Grievance System.”

* * * * *

Purpose(s):

Remove the following from the third paragraph: “the Merit Systems Protection Board including the Office of the Special Counsel” and replace with: “the Merit Systems Protection Board.”

* * * * *

Storage:

Delete entry and replace with: “Paper records in file folders and electronically in a database.”

Retrievability:

Delete entry and replace with: “Alphabetically by surname of individual or specific types of grievances.”

Safeguards:

Delete entry and replace with: “Records are maintained in a building protected by security guards and are stored in vaults, safes or locked cabinets and are accessible only to authorized personnel who are properly screened, cleared and trained in the protection of privacy information. Electronic records are maintained on a classified and password protected system.”

Retention and Disposal:

Delete entry and replace with: “Record is destroyed 6 years and 3 months after closing of the case.”

System Manager(s) and Address:

Delete entry and replace with: “Deputy Director for Human Capital, ATTN: HCH, Defense Intelligence Agency, Washington, DC 20340-5100.”

Notification Procedure:

Delete entry and replace with: “Individuals seeking to determine whether information about themselves is contained in this system of records should address written inquiries to the Freedom of Information Act Office (DAN-1A/FOIA), Defense Intelligence Agency, 200 MacDill Blvd., Washington, DC 20340-5100.

Individual should provide their full name, current address, telephone number and Social Security Number.”

Record Access Procedures:

Delete entry and replace with: “Individuals seeking access to information about themselves contained in this system should address written inquiries to the Freedom of Information Act Office (DAN-1A/FOIA), Defense Intelligence Agency, 200 MacDill Blvd., Washington, DC 20340-5100.

Individual should provide their full name, current address, telephone number and Social Security Number.”

Contesting Record Procedures:

Delete entry and replace with: “DIA's rules for accessing records, for contesting contents and appealing initial agency determinations are published in DIA Regulation 12-12 ‘Defense Intelligence Agency Privacy Program’; 32 CFR part 319—Defense Intelligence Agency Privacy Program; or may be obtained from the system manager.”

* * * * *

LDIA 0014

System name:

Employee Grievance Files.

System location:

Defense Intelligence Agency, Washington, DC 20340-5100.

Categories of Individuals covered by the system:

Current and former civilian employees of DIA who have submitted grievances in accordance with DIA Regulation 22-23 “Civilian Personnel Administration Manual—DIA Employee Grievance System.”

Categories of records in the system:

Files contain all records and documents relating to grievances filed by Agency employees to include statements of witnesses, reports of interviews and hearings and examiner's findings, recommendations, decisions and related correspondence or exhibits.

Authority for maintenance of the system:

Pursuant to the authority contained in the National Security Act of 1947, as amended, the Secretary of Defense issued Department of Defense Directive 5105.21 which created the Defense Intelligence Agency as a separate agency of the Department of Defense and charged the Agency's Director with the responsibility for the maintenance of necessary and appropriate records.

Purpose(s):

To record all information collected in the course of a formal grievance including statements, findings, exhibits, recommendations and decisions.

Files may be used as part of subsequent administrative or judicial proceedings concerning central or peripheral issues.

To disclose information to any source from which additional information is requested in the course of processing a grievance to the extent necessary to identify the individual, inform the source of the purpose(s) of the request and identify the type of information requested; to another Federal agency or to a court when the Government is party to a judicial proceeding before the court; by the Agency in the production of summary descriptive statistics, analytical studies and training in support of the function for which the records are collected and maintained or for related work force studies; to officials of the Merit Systems Protection Board, or the Equal Employment Opportunity Commission when requested in performance of their authorized duties; to disclose in response to a request for discovery or for appearance of a witness, information that is relevant to the subject matter involved in a pending judicial or administrative proceeding.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The “Blanket Routine Uses” set forth at the beginning of the DIA's compilation of systems of records notices apply to this system.

Policies and practices for storing, retrieving, accessing, retaining, and disposing of records in the system:

Storage:

Paper records in file folders and electronically in a database.

Retrievability:

Alphabetically by surname of individual or specific types of grievances.

Safeguards:

Records are maintained in a building protected by security guards and are stored in vaults, safes or locked cabinets and are accessible only to authorized personnel who are properly screened, cleared and trained in the protection of privacy information. Electronic records are maintained on a classified and password protected system.

Retention and disposal:

Record is destroyed 6 years and 3 months after closing of the case.

System manager(s) and address:

Deputy Director for Human Capital, ATTN: HCH, Defense Intelligence Agency, Washington, DC 20340-5100.

Notification procedure:

Individuals seeking to determine whether information about themselves is contained in this system of records should address written inquiries to the Freedom of Information Act Office (DAN-1A/FOIA), Defense Intelligence Agency, 200 MacDill Blvd., Washington, DC 20340-5100.

Individual should provide their full name, current address, telephone number and Social Security Number.

Contesting record procedures:

DIA's rules for accessing records, for contesting contents and appealing initial agency determinations are published in DIA Regulation 12-12 “Defense Intelligence Agency Privacy Program”; 32 CFR part 319—Defense Intelligence Agency Privacy Program; or may be obtained from the system manager.

Record source categories:

By the individual, testimony of witnesses, Agency officials and from related correspondence from organizations or persons.

Exemptions claimed for the system:

None.

[FR Doc. 06-4966 Filed 5-30-06; 8:45 am]

BILLING CODE 5001-06-M